DEPARTMENT OF JUSTICE

Notice of Lodging of Proposed Consent Decree Under the Oil Pollution and Clean Water Acts

On December 20, 2021, the United States' Department of Justice lodged a proposed Consent Decree with the U.S. District Court for the Eastern District of Louisiana in United States v. Taylor Energy Company LLC, Civil Case No. 20-2910 (E.D. La.).

The Complaint in this civil action, filed on October 23, 2020, seeks removal costs, civil penalties, and natural resource damages (NRD) under Section 1002 and 1004 of the Oil Pollution Act (OPA), 33 U.S.C. 2702 and 2704, and Section 311 of the Clean Water Act, 33 U.S.C. 1321. These claims arise from the discharge of oil from Taylor Energy Company LLC's (Taylor Energy's) former oil production facility on the Outer Continental Shelf in the Gulf of Mexico, which began when the facility was damaged during a hurricane in September 2004.

Under the proposed Consent Decree, Taylor Energy will pay approximately $43.5 million—all of the company's available remaining assets—allocated as $15 million to a civil penalty, $16.5 million to NRD, and over $12 million to the U.S. Coast Guard removal costs, to resolve the civil claims arising from the oil discharge. The State of Louisiana is a co-trustee for natural resources injured by the spill, and the NRD money is a joint recovery to be used for natural resource restoration projects selected by the federal and State trustees. Taylor Energy will also transfer to the U.S. Department of the Interior (DOI)'s Bureau of Ocean and Energy Management (BOEM) over $432 million currently held in a trust for plugging the seafloor oil wells and otherwise decommissioning the facility, and the company will be barred from interfering in any way with the Bureau of Safety and Environmental Enforcement's (BSEE's) decommissioning work. Likewise, Taylor Energy commits not to interfere with the Coast Guard's oil containment and removal actions and agrees to turn over to DOI and the Coast Guard documents (including data, studies, reports, etc.) relating to the site to assist in the decommissioning and response efforts. Upon liquidation, Taylor Energy will transfer the value of its remaining assets to the U.S. as its final payment.

In addition, the proposed Consent Decree requires the company to dismiss with prejudice its numerous lawsuits against the U.S., including challenges to the Coast Guard's decision to install a spill containment system and an appeal of the Coast Guard's denial of Taylor Energy's $353 million spill-cost reimbursement claim submitted to the U.S. Oil Spill Liability Trust Fund.

The United States Department of Justice filed the proposed Consent Decree on behalf of the Coast Guard, DOI, and the federal and State trustees for natural resources. The designated federal trustees for the natural resources impacted by Taylor Energy's oil spill are the U.S. Department of Commerce through the National Oceanic and Atmospheric Administration (NOAA) and DOI through the U.S. Fish and Wildlife Service. The designated State trustees are the Louisiana Oil Spill Coordinator's Office, Department of Public Safety & Corrections; Louisiana Department of Natural Resources; Louisiana Department of Environmental Quality; Louisiana Department of Wildlife and Fisheries; and the Louisiana Coastal Protection and Restoration Authority.

The publication of this notice opens a 40-day period for public comment on the proposed Consent Decree. Comments should be addressed to the Assistant Attorney General, Environment and Natural Resources Division, and should refer to United States v. Taylor Energy Company LLC, DJ# 90-5-1-1-11008/2, Civil Case No. 20-2910 (E.D. La.). All comments must be submitted no later than 40 days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department website: https://www.justice.gov/enrd/consent-decrees. We will provide a paper copy of the proposed Consent Decree upon written request and payment of reproduction costs. Please mail your request and enclose a check or money order for $14.50 (25 cents per page reproduction cost) payable to the United States Treasury to: Consent Decree Library, U.S. DOJ—ENRD, P.O. Box 7611, Washington, DC 20044-7611.

Thomas Carroll,
Assistant Section Chief, Environmental Enforcement Section, Environment and Natural Resources Division.

[FR Doc. 2021-28092 Filed 12-27-21; 8:45 am]

BILLING CODE 4410-15-P